DEPARTMENT OF TRANSPORTATION

Research and Special Programs Administration

[Docket No. RSPA-01-8587; Notice No. 01-01]

Hazardous Materials Safety Advisory: Unauthorized Marking of Compressed Gas Cylinders

AGENCY: Research and Special Programs Administration (RSPA), DOT.

ACTION: Safety Advisory Notice.

SUMMARY: This is to notify the public that RSPA is investigating the apparent unauthorized and improper marking of high-pressure compressed gas cylinders by FESS, Inc. d/b/a Fire Extinguisher Service and Sales, 3303 Superior Avenue, Cleveland, Ohio, during the period 1995 to the present. Those cylinders may pose a safety risk to the public. Under no circumstances should a cylinder described in this safety advisory be filled, refilled or used for any purpose other than scrap until it is reinspected and retested by a DOT-authorized retest facility.

RSPA requires that compressed gas cylinders undergo a visual reinspection and a hydrostatic retest on a periodic basis, in accordance with the Hazardous Materials Regulations (HMR), in order to verify that a cylinder has the structural integrity for continued use. If the required visual reinspection and hydrostatic retest are not performed properly, a cylinder with compromised structural integrity may fail (leak or burst) in continued service, when it should have been condemned. Serious personal injury, death, and property damage could result from rupture of a cylinder. Cylinders that have not been retested in accordance with the HMR may not be charged or filled with a hazardous material (compressed gas).

FOR FURTHER INFORMATION CONTACT: Guadalupe “Lupe” Castellanos, Hazardous Materials Enforcement Specialist, Central Region, Office of Hazardous Materials Enforcement, Research and Special Programs Administration, US Department of Transportation, 2350 East Devon Avenue, Des Plaines, Illinois 60018. Telephone: (847) 294-8580; Fax: (847) 294-8590.

SUPPLEMENTARY INFORMATION: Until March 19, 1998, FESS held a retester identification number (RIN) issued by RSPA, authorizing FESS to requalify DOT and ICC specification compressed gas cylinders for continued use in accordance with the requirements in 49 CFR 173.34(e) of the HMR for performing a periodic visual inspection and hydrostatic retest. In its most recent application for renewal of its RIN, FESS stated that it reinspected and retested approximately 800 DOT specification 3A, 3AA, and 3AL cylinders each year. When used as fire extinguishers, the retest period for these cylinders can be as long as 12 years. 49 CFR 173.34(e)(19)(ii).

During a recent inspection at FESS's facility in Cleveland, Ohio, RSPA determined that FESS had marked an undetermined number of cylinders after its RIN expired on March 19, 1998. RSPA also concluded that FESS had marked many cylinders, both before and after that date, which may not have been properly reinspected and retested. It appeared to RSPA's inspector that FESS was not able to assure that its hydrostatic retest equipment was accurate to the required degree, based on its failure to have documentation showing the test pressures and readings for its calibrated cylinder and based on the condition of its retest apparatus and calibrated cylinder at the time of the inspection. FESS acknowledged that it customarily marked cylinders before inspecting and testing them, and its test records were incomplete in a number of regards, including lack of entries for certain cylinders observed during RSPA's inspection; the dates on which cylinders were purportedly reinspected and retested; and the initial retest attempt when a cylinder was retested a second time due to equipment failure on the first retest attempt. In addition, FESS did not have the current version of the requirements for requalification of compressed gas cylinders in 49 CFR 173.34(e), and it did not hold pamphlets published by the Compressed Gas Association and incorporated by reference in the HMR that apply to its operations.

The current owner stated that he had assumed control of FESS during 1995. Because there has not been an inspection by an independent inspection agency since that date and FESS failed to renew its RIN when it expired, the matters discovered during RSPA's recent inspection raise questions as to the condition of any cylinder marked by FESS with a test date/year of “95” or later. These cylinders are marked with FESS's RIN number B404, bracketed by the month and year of the purported reinspection and retest date, in the following pattern:

B 4
Month Year
4 0

Any person holding a compressed gas cylinder that is marked as having been last inspected and retested by FESS since 1995 should not charge or fill the cylinder without first having it inspected and retested by a cylinder requalification facility holding a currently effective RIN. Any filled cylinder that is marked as having been last inspected and retested by FESS since 1995 should be properly and safely evacuated and purged (a cylinder filled with an atmospheric gas may be vented), and taken to a DOT-authorized cylinder retest facility for visual reinspection and hydrostatic retest to determine if it qualifies for continued use in accordance with the HMR. Under no circumstances should a cylinder described in this safety advisory be filled, refilled or used for any purpose other than scrap until it is reinspected and retested by a DOT-authorized retest facility.

Cylinder requalification facilities holding a currently effective RIN are listed on the internet web site of RSPA's Office of Hazardous Materials Safety, at

“http://hazmat.dot.gov/files/approvals/hydro/hydro_retesters.htm”.

Persons finding or possessing cylinders described in this safety notice may contact Ms. Guadalupe Castellanos for additional information.

Issued in Washington, D.C. on January 11, 2001.
Robert A. McGuire,
Associate Administrator for Hazardous Materials Safety.

[FR Doc. 01-1553 Filed 1-17-01; 8:45 am]

BILLING CODE 4910-60-P